GENERAL SERVICES ADMINISTRATION

41 CFR Parts 302-4 and 302-9

[Notice-MA-2025-10; Docket No. 2025-0002; Sequence 8]

Federal Travel Regulation; Alternative Fuel Vehicle Usage During Relocations; Planned Rescission

AGENCY: Office of Government-wide Policy (OGP); General Services Administration, (GSA).

ACTION: Notification of upcoming rescission of FTR Case 2022-03.

SUMMARY: GSA plans to issue a final rule rescinding Federal Travel Regulation (FTR) Case 2022-03, “Alternative Fuel Vehicle Usage During Relocations,” published on March 26, 2024.

DATES: April 16, 2025.

ADDRESSES: Those interested can view FTR Case 2022-03 at https://www.regulations.gov/document/GSA-FTR-2022-0013-0006.

FOR FURTHER INFORMATION CONTACT: For clarification of content please contact Mr. Sean Lambert, OGP, Office of Asset and Transportation Management, at 771-233-2475, or by email at travelpolicy@gsa.gov. Please cite Notice of Intent to Rescind FTR Case 2022-03.

SUPPLEMENTARY INFORMATION: GSA plans to rescind FTR Case 2022-03 (FR Doc. 2024-06352 (89 FR 20857, published on March 26, 2024)) in line with Executive Order (E.O.) 14148, Initial Rescissions of Harmful Executive Orders and Actions, and E.O. 14154, Unleashing American Energy. GSA intends to revert the language in the FTR that was changed pursuant to FTR Case 2022-03 to the language that applied immediately prior to such changes; such predecessor language was agnostic as to the type of privately-owned vehicle owned or leased by a relocating employee.

Larry Allen,
Associate Administrator, Office of Government-wide Policy.

[FR Doc. 2025-06276 Filed 4-15-25; 8:45 am]

BILLING CODE 6820-14-P